DEPARTMENT OF ENERGY

Federal Energy Regulatory Commission

[Project No. 1904-078, Project No. 1855-050, Project No. 1892-030]

Great River Hydro, LLC; Notice of Revised Procedural Schedule for Environmental Impact Statement for the Proposed Project Relicenses

On May 1, 2017, and materially amended on December 7, 2020, Great River Hydro, LLC filed applications for new major licenses to operate its 32.4-megawatt (MW) Vernon Hydroelectric Project (Vernon Project; FERC No. 1904), 40.8-MW Bellows Falls Hydroelectric Project (Bellows Falls Project; FERC No. 1855), and 35.6-MW Wilder Hydroelectric Project (Wilder Project; FERC No. 1892) (collectively, projects). On June 5, 2024, Commission staff issued a notice of intent to prepare an environmental impact statement (EIS) to evaluate the effects of relicensing the projects. The notice included an anticipated schedule for issuing the draft and final EIS. By notice issued November 21, 2024, Commission staff revised the procedural schedule for completing the draft and final EIS.

By this notice, Commission staff is updating the procedural schedule for completing the draft and final EIS. The revised schedule is shown below. Further revisions to the schedule may be made as appropriate.

Milestone | Target date
Issue draft EIS | May 2025.
Comments on draft EIS due | July 2025.
Commission issues final EIS | January 2026.

Any questions regarding this notice may be directed to Steve Kartalia at (202) 502-6131 or stephen.kartalia@ferc.gov.

Dated: April 29, 2025.
Debbie-Anne A. Reese,
Secretary.

[FR Doc. 2025-07742 Filed 5-2-25; 8:45 am]

BILLING CODE 6717-01-P